DEPARTMENT OF DEFENSE

Department of the Army

[Docket ID: USA-2024-HQ-0009]

Proposed Collection; Comment Request

AGENCY: U.S. Army Corps of Engineers (USACE), Department of the Army, Department of Defense (DoD).

ACTION: 60-Day information collection notice.

SUMMARY: In compliance with the Paperwork Reduction Act of 1995, USACE announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters, USACE, 441 G Street NW, Washington, DC 20314-1000, ATTN: Ms. Bonnie Jennings, email hq-section408@usace.army.mil, or call 502-552-7204.

SUPPLEMENTARY INFORMATION:

Title; Associated Form; and OMB Number: USACE Request for Section 408 Permission; OMB Control Number 0710-RSFP.

Needs and Uses: Pursuant to Section 14 of the Rivers and Harbors Act of 1899 (33 U.S.C. 408), USACE is required to regulate alterations to, or temporarily or permanently occupation or use of, federally authorized Civil Works projects by an entity other than USACE. This is accomplished through the review of applications from requestors for “Section 408 permission” to render a decision regarding the proposed project.

The information collected is used to verify, as required by law, that the proposed alteration to authorized USACE Civil Works projects will not be injurious to the public interest and will not impair the usefulness of the project. Respondents are private landowners, businesses, nonprofit organizations, and government agencies.

USACE will verify any information provided on the collection instrument as part of its Section 408 review process. Once USACE has collected and/or verified the information required to make a decision (completeness determination) on the Section 408 request, USACE will complete its decision and provide it to the requester.

This proposed collection is intended to provide additional consistency and predictability for parties seeking to alter a federally authorized Civil Works project.

Affected Public: Individuals or households; business or other for-profit; not-for-profit institutions; farms; Federal Government; State; local or Tribal government.

Annual Burden Hours: 3,300.

Number of Respondents: 1,100.

Responses per Respondent: 1.

Annual Responses: 1,100.

Average Burden per Response: 3 hours.

Frequency: On occasion.

Dated: July 18, 2024.
Aaron T. Siegel,
Alternate OSD Federal Register Liaison Officer, Department of Defense.

[FR Doc. 2024-16143 Filed 7-22-24; 8:45 am]

BILLING CODE 6001-FR-P